DEPARTMENT OF ENERGY

Federal Energy Regulatory Commission

Combined Notice of Filings # 1

March 8, 2007.

Take notice that the Commission received the following exempt wholesale generator filings:

Docket Numbers: EG07-41-000.

Applicants: Navasota Odessa Energy Partners LP.

Description: Navasota Odessa Energy Partners LP submits this notice of self-certification of its status as an exempt wholesale generator pursuant to the PUHCA of 2005.

Filed Date: 03/06/2007.

Accession Number: 20070308-0061.

Comment Date: 5 p.m Eastern Time on Tuesday, March 27, 2007.

Docket Numbers: EG07-42-000.

Applicants: Navasota Wharton Energy Partners LP.

Description: Navasota Wharton Energy Partners, LP submits notice of self-certification of its status as an exempt wholesale generator.

Filed Date: 03/06/2007.

Accession Number: 20070308-0057.

Comment Date: 5 p.m Eastern Time on Tuesday, March 27, 2007.

Take notice that the Commission received the following electric rate filings:

Docket Numbers: ER99-2342-011.

Applicants: Tampa Electric Company.

Description: Tampa Electric Company submits a change in status with respect to its market-based rate authority.

Filed Date: 03/05/2007.

Accession Number: 20070307-0090.

Comment Date: 5 p.m Eastern Time on Monday, March 26, 2007.

Docket Numbers: ER01-2742-005.

Applicants: Rock River I, L.L.C.

Description: Rock River I, LLC submits their triennial updated market analysis.

Filed Date: 03/06/2007.

Accession Number: 20070308-0059.

Comment Date: 5 p.m Eastern Time on Tuesday, March 27, 2007.

Docket Numbers: ER03-736-006.

Applicants: CAM Energy Products, L.P.

Description: CAM Energy Products LP submits its triennial updated market power analysis.

Filed Date: 03/06/2007.

Accession Number: 20070308-0060.

Comment Date: 5 p.m Eastern Time on Tuesday, March 27, 2007.

Docket Numbers: ER03-1159-003.

Applicants: Hershey Chocolate and Confectionary Corporation.

Description: Chocolate and Confectionary Corporation submits its second revised Market Based Electric Rate Tariff.

Filed Date: 03/07/2007.

Accession Number: 20070308-0058.

Comment Date: 5 p.m Eastern Time on Wednesday, March 28, 2007.

Docket Numbers: ER03-1165-002.

Applicants: Energy Cooperative Association of Pennsylvania.

Description: Energy Cooperative Association of Pennsylvania submits an amended version of Petition for Acceptance of Updated Tariff and Blanket Authority.

Filed Date: 03/02/2007.

Accession Number: 20070308-0008.

Comment Date: 5 p.m Eastern Time on Monday, March 12, 2007.

Docket Numbers: ER04-1181-001; ER04-1182-001; ER04-1184-001; ER04-1186-001.

Applicants: KGen Hinds LLC; KGen Hot Spring LLC; KGen Murray I and II LLC; KGen Sandersville LLC.

Description: KGen Project Companies submit their Triennial Updated Market Analysis and Notice of Non-Material Change in Status.

Filed Date: 03/05/2007.

Accession Number: 20070308-0064.

Comment Date: 5 p.m Eastern Time on Monday, March 26, 2007.

Docket Numbers: ER05-6-095.

Applicants: Dayton Power and Light Company.

Description: The Dayton Power and Light Company submits a Electric Refund Report.

Filed Date: 03/07/2007.

Accession Number: 20070307-5015.

Comment Date: 5 p.m Eastern Time on Wednesday, March 28, 2007.

Docket Numbers: ER07-319-001.

Applicants: Southwest Power Pool.

Description: Southwest Power Pool, Inc submits revisions to Open Access Transmission Tariff pursuant to the Commission's order issued on 1/31/07.

Filed Date: 03/02/2007.

Accession Number: 20070306-0202.

Comment Date: 5 p.m Eastern Time on Friday, March 23, 2007.

Docket Numbers: ER07-335-001.

Applicants: E.ON U.S., LLC.

Description: E.ON U.S. LLC on behalf of Louisville Gas and Electric Company et al submit a revised unexecuted Service Agreement for Network Integration Transmission Service.

Filed Date: 03/05/2007.

Accession Number: 20070307-0086.

Comment Date: 5 p.m Eastern Time on Monday, March 26, 2007.

Docket Numbers: ER07-336-001.

Applicants: San Diego Gas & Electric Company.

Description: San Diego Gas & Electric Co submits a compliance Filing in Response to the Commission's 2/16/07 Order.

Filed Date: 03/05/2007.

Accession Number: 20070305-5015.

Comment Date: 5 p.m Eastern Time on Monday, March 26, 2007.

Docket Numbers: ER07-431-001.

Applicants: Southern Company Services, Inc.

Description: Southern Company Services, Inc agent for Alabama Power Company et al submit the Rollover Network Integrated Transmission Service Agreements.

Filed Date: 03/05/2007.

Accession Number: 20070307-0087.

Comment Date: 5 p.m Eastern Time on Monday, March 26, 2007.

Docket Numbers: ER07-442-001.

Applicants: Southern Company Services, Inc.

Description: Alabama Power Co & Georgia Power Co et al submits a Rollover Network Integrated Transmission Service Agreement with the City of Hampton.

Filed Date: 03/05/2007.

Accession Number: 20070307-0073.

Comment Date: 5 p.m Eastern Time on Monday, March 26, 2007.

Docket Numbers: ER07-579-001.

Applicants: Midwest Independent Transmission System Operator, Inc.

Description: Midwest Independent Transmission System Operator, Inc submits executed signature pages of the amended and restated Generator Interconnection Agreement.

Filed Date: 03/06/2007.

Accession Number: 20070308-0056.

Comment Date: 5 p.m Eastern Time on Tuesday, March 27, 2007.

Docket Numbers: ER07-586-000.

Applicants: Orange and Rockland Utilities, Inc.

Description: Orange and Rockland, Inc submits an amendment to its Open Access Transmission Tariff, FERC Electric Tariff, Original Volume 3.

Filed Date: 03/01/2007.

Accession Number: 20070307-0172.

Comment Date: 5 p.m Eastern Time on Thursday, March 22, 2007.

Docket Numbers: ER07-594-000.

Applicants: Pirin Solutions, Inc.

Description: Pirin Solutions, Inc submits a petition for acceptance of initial tariff, waivers and blanket authority pursuant to Section 205 of the Federal Power Act.

Filed Date: 02/27/2007.

Accession Number: 20070306-0216.

Comment Date: 5 p.m Eastern Time on Tuesday, March 20, 2007.

Docket Numbers: ER07-596-000.

Applicants: E.ON U.S., LLC.

Description: E.ON US, LLC on behalf of its Louisville Gas and Electric Company et al submits proposed revisions to LG&E and KU's joint Open Access Transmission Tariff.

Filed Date: 03/05/2007.

Accession Number: 20070307-0085.

Comment Date: 5 p.m Eastern Time on Monday, March 26, 2007.

Docket Numbers: ER07-597-000.

Applicants: Montana Generation, LLC.

Description: Montana Generation, LLC submits a notice of succession.

Filed Date: 03/06/2007.

Accession Number: 20070307-0091.

Comment Date: 5 p.m Eastern Time on Tuesday, March 27, 2007.

Docket Numbers: ER07-599-000.

Applicants: Reliant Energy Electric Solutions, LLC.

Description: Reliant Energy Electric Solutions, LLC submits FERC Electric Tariff, Original Volume 2.

Filed Date: 03/06/2007.

Accession Number: 20070308-0065.

Comment Date: 5 p.m Eastern Time on Tuesday, March 27, 2007.

Docket Numbers: ER07-600-000.

Applicants: Public Service Company of New Mexico.

Description: Public Service Company of New Mexico submits notices of termination and cancellation of certain PNM Service Agreements.

Filed Date: 03/07/2007.

Accession Number: 20070308-0066.

Comment Date: 5 p.m Eastern Time on Wednesday, March 28, 2007.

Docket Numbers: ER07-601-000.

Applicants: Southern California Edison Company.

Description: Southern California Edison Company submits a rate sheet for Interconnection Facilities Agreement with the Nuevo Energy Company and a notice of cancellation.

Filed Date: 03/07/2007.

Accession Number: 20070308-0067.

Comment Date: 5 p.m Eastern Time on Wednesday, March 28, 2007.

Docket Numbers: ER07-602-000.

Applicants: PJM Interconnection L.L.C.

Description: PJM Interconnection, LLC submits revisions to Schedule 2 of the PJM Open Access Transmission Tariff.

Filed Date: 03/05/2007.

Accession Number: 20070308-0068.

Comment Date: 5 p.m Eastern Time on Monday, March 26, 2007.

Docket Numbers: ER07-603-000.

Applicants: Southwest Power Pool, Inc.

Description: Southwest Power Inc submits a partially executed service agreements for Market Participants selling into its real-time energy imbalance service markets with Golden Spread Electric Cooperative Inc.

Filed Date: 03/05/2007.

Accession Number: 20070308-0075.

Comment Date: 5 p.m Eastern Time on Monday, March 26, 2007.

Take notice that the Commission received the following foreign utility company status filings:

Docket Numbers: FC07-12-000.

Applicants: Hidroelectrica EL Chocon SA.

Description: HIDROELECTRICA EL CHOCON S.A. submits a Notice of Self-Certification of Foreign Utility Status.

Filed Date: 03/02/2007.

Accession Number: 20070302-5012.

Comment Date: 5 p.m Eastern Time on Friday, March 23, 2007.

Docket Numbers: FC07-13-000.

Applicants: Centrales Termicas Mendoza S.A.

Description: Notice of Self-Certification of Foreign Utility Company Status of Centrales Termicas Mendoza S.A.

Filed Date: 03/02/2007.

Accession Number: 20070302-5021.

Comment Date: 5 p.m Eastern Time on Friday, March 23, 2007.

Docket Numbers: FC07-14-000.

Applicants: Centrales Termicas San Nicolas, S.A.

Description: Notice of Self-Certification of Foreign Utility Co. Status of Centrales Termicas San Nicolas, S.A.

Filed Date: 03/02/2007.

Accession Number: 20070302-4012.

Comment Date: 5 p.m Eastern Time on Friday, March 23, 2007.

Docket Numbers: FC07-16-000.

Applicants: CMS ENSENADA SA.

Description: Notice of Self-Certification of Foreign Utility Company Status of CMS ENSENADA S.A.

Filed Date: 03/02/2007.

Accession Number: 20070302-5014.

Comment Date: 5 p.m. Eastern Time on Friday, March 23, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Philis J. Posey,
Acting Secretary.

[FR Doc. E7-4629 Filed 3-13-07; 8:45 am]

BILLING CODE 6717-01-P